DEPARTMENT OF COMMERCE

National Oceanic and Atmospheric Administration

RIN: 0648-XP01

Council Coordination Committee; Public Meeting

AGENCY: National Marine Fisheries Service (NMFS), National Oceanic and Atmospheric Administration (NOAA), Commerce.

ACTION: Notice of a public meeting.

SUMMARY: The New England Fishery Management Council (NEFMC) will host a meeting of the Council Coordination Committee (CCC), consisting of the eight Regional Fishery Management Council chairs, vice chairs and executive directors on May 19-22, 2009. The intent of this meeting is to discuss issues of relevance to the Councils, including planning, programming and budgeting; implementation of provisions from the Magnuson-Stevens Fishery Conservation and Management Reauthorization Act (MSRA); and ecosystem-based management; among others.

DATES: This meeting will be held on May 19, 2009 through May 22, 2009. See SUPPLEMENTARY INFORMATION for specific dates and times.

ADDRESSES: The meeting will be held at the Marriott Long Wharf Hotel, 296 State Street, Boston, MA 02109; telephone: (617) 227-0800; fax: (617) 227-2867.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The meeting will begin at 8:30 a.m. on Tuesday, May 19, 2009 and recess at 5 p.m., or when business is complete; reconvene at 8:30 a.m. on Wednesday, May 20, 2009 and recess at 5 p.m., or when business is complete; reconvene at 8:30 a.m. on Thursday, May 21, 2009 and recess at 5 p.m., or when business is complete and, if needed, will reconvene on Friday, May 22, 2009, and adjourn by noon, or when business is complete.

The Magnuson-Stevens Fishery Conservation and Management Reauthorization act (MSRA) of 2006 established the Council Coordination Committee (CCC) by amending Section 302 (16 U.S.C. 1852) of the Magnuson-Stevens Act. The Committee consists of the chairs, vice chairs and executive directors of each of the Regional Fishery Management Councils authorized by the Magnuson-Stevens Act or other Council members or staff. The NEFMC will host this meeting and provide reports to the Committee for its information and discussion. The main topics of discussion will be budgets and planning, implementation of the provisions of the MSRA and related guidance and technical regulatory changes, among others.

Agenda

Tuesday, May 19, 2009

• Opening Remarks, Joint Council/NMFS Session

• Separate Council/NMFS Sessions

Wednesday, May 20, 2009

• Discussion of annual catch limits (ACLs) and accountability measures (AMs)

• Ecosystem Based Management

• Budgets

• Limited Access Privilege Programs (LAPPs) Development and Implementation

Thursday, May 21, 2009

• Standardized Management Actions

• Scientific and Statistical Committee (SSC) Operating Procedures

• Enforcement and Safety

• Legislation and Regulation Updates

Friday, May 22, 2009

• Councils only session (if needed). The order in which the agenda items are addressed may change. The CCC will meet as late as necessary to complete scheduled business.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: April 28, 2009.
Tracey L. Thompson,
Acting Director, Office of Sustainable Fisheries, National Marine Fisheries Service.

[FR Doc. E9-10016 Filed 4-30-09; 8:45 am]

BILLING CODE 3510-22-S